DEPARTMENT OF HOMELAND SECURITY

Coast Guard

33 CFR Part 100

[Docket No. USCG-2019-0543]

Special Local Regulations; Marine Events Within the Fifth Coast Guard District

AGENCY: Coast Guard, DHS.

ACTION: Notice of enforcement of regulation.

SUMMARY: The Coast Guard will enforce the special local regulation for the Thunder Over the Boardwalk Air Show on August 20 and August 21, 2019, from 10:30 a.m. through 4:30 p.m., to provide for the safety of life on navigable waterways during this event. Our regulation for marine events within the Fifth Coast Guard District identifies the regulated area for this event in Atlantic City, NJ. During the enforcement periods, the operator of any vessel in the regulated area must comply with directions from the Patrol Commander or any Official Patrol displaying a Coast Guard ensign.

DATES: The regulation in 33 CFR 100.501 for the special local regulation listed in item (a)(8) in the table to § 100.501 will be enforced from 10:30 a.m. through 4:30 p.m. on each of the following dates: August 20, 2019, and August 21, 2019.

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION: The Coast Guard will enforce the special regulations as described in section (a), row (8) of the table to in 33 CFR 100.501 for the Thunder Over the Boardwalk Air Show from 10:30 a.m. to 4:30 p.m. on August 20 and August 21, 2019. The published enforcement periods for this event include the 3rd Tuesday and Wednesday in August. Because an additional air show practice over these same waters is scheduled for Monday, August 19, 2019, and poses similar hazards to safety of life, we are also issuing a separate special local regulation from 10:30 a.m. to 4:30 p.m. on that day as well. For more information on that rulemaking, go to https://www.regulations.gov, type USCG-2019-0644 in the “Search” box and click “Search.” These actions are being taken to provide for the safety of life on navigable waterways during this 3-day event. Our regulation for marine events within the Fifth Coast Guard District, table to § 100.501, section (a), row (8), specifies the location of the regulated area as all waters of the North Atlantic Ocean, adjacent to Atlantic City, New Jersey, bounded by a line drawn between the following points: From a point along the shoreline at latitude 39°21′31″ N, longitude 074°25′04″ W, thence southeasterly to latitude 39°21′08″ N, longitude 074°24′48″ W, thence southwesterly to latitude 39°20′16″ N, longitude 074°27′17″ W, thence northwesterly to a point along the shoreline at latitude 39°20′44″ N, longitude 074°27′31″ W, thence northeasterly along the shoreline to latitude 39°21′31″ N, longitude 074°25′04″ W.

During the enforcement periods, as reflected in § 100.100(c), if you are the operator of a vessel in the regulated area you must comply with directions from the Patrol Commander or any Official Patrol displaying a Coast Guard ensign.

In add addition to this notice of enforcement in the Federal Register, the Coast Guard will provide notification of the enforcement periods via broadcast notice to mariners.

Dated: August 13, 2019.
Scott E. Anderson,
Captain, U.S. Coast Guard, Captain of the Port, Delaware Bay.

[FR Doc. 2019-17740 Filed 8-16-19; 8:45 am]

BILLING CODE 9110-04-P